ENVIRONMENTAL PROTECTION AGENCY

[EPA-HQ-OAR-2003-0152; FRL-11704-01-OMS]

Agency Information Collection Activities; Submission to the Office of Management and Budget for Review and Approval; Comment Request; Compliance Assurance Monitoring Program (Renewal)

AGENCY: Environmental Protection Agency (EPA).

ACTION: Notice.

SUMMARY: The Environmental Protection Agency (EPA) has submitted an information collection request (ICR), Compliance Assurance Monitoring (CAM) Program (EPA ICR Number 1663.11, OMB Control Number 2060-0376), to the Office of Management and Budget (OMB) for review and approval in accordance with the Paperwork Reduction Act. This is a proposed extension of the ICR, which is currently approved through January 31, 2024. Public comments were previously requested, via the Federal Register on May 18, 2023, during a 60-day comment period. This notice allows for an additional 30 days for public comments.

DATES: Comments may be submitted on or before February 28, 2024.

ADDRESSES: Submit your comments, referencing Docket ID Number EPA-HQ-OAR-2003-0152, to EPA online using www.regulations.gov (our preferred method), or by email to: a-and-r-docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this specific information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through January 31, 2024. An agency may neither conduct nor sponsor and a person is not required to respond to a collection of information unless it displays a currently valid OMB control number.

Public comments were previously requested, via the Federal Register on July 22, 2023, during a 60-day comment period (88 FR 31748). The notice allows for an additional 30 days for public comments. Supporting documents, which explain in detail the information that the EPA will be collecting, are available in the public docket for this ICR. The docket can be viewed online at www.regulations.gov, or in person at the EPA Docket Center, WJC West Building, Room 3334, 1301 Constitution Ave. NW, Washington, DC. The telephone number for the Docket Center is 202-566-1744. For additional information about EPA's public docket, visit www.epa.gov/dockets.

Abstract: Information collected as part of this information collection request (ICR) is used to issue operating permits and manage the CAM program. The operating permit program requires owners or operators of units that emit air pollutants to submit annual compliance certifications and monitoring results at least semi-annually, and to report deviations promptly, but no implementation guidance is provided within the operating permit program. The CAM program ensures sources that use active air emission control devices pay attention to those devices by monitoring their performance on an ongoing basis. The CAM rule establishes the requirements to implement that monitoring for the operating permit program in a cost-effective manner.

Form Numbers: None.

Respondents/affected entities: Owners and operators of pollutant-specific emission units.

Respondent's obligation to respond: Mandatory (40 CFR part 64).

Estimated number of respondents: 22,153 (total).

Frequency of response: Semiannually.

Total estimated burden: 23,510 hours (per year). Burden is defined at 5 CFR 1320.3(b).

Total estimated cost: $2,423,000 (per year) which includes $0 annualized capital or operation & maintenance costs.

Changes in the Estimates: There is an overall decrease of 1,080 hours in the total estimated respondent burden compared with the ICR currently approved by OMB. This decrease is due to a correction of mathematical errors found in the previous ICR renewal. While the total estimated annual burden decreased, the total annual cost increased due to updated labor rates from the currently approved ICR.

The CAM program was designed to ensure monitoring provisions associated with the prevention of significant deterioration (PSD) program were included in the Title V permits and updated as necessary. The owners or operators were required to develop monitoring plans for sources with active control devices. The agency envisioned that, over time, all the title V permits would be issued and would require CAM rule requirements. Current burden reduction for the CAM rule is based on complete issuance of title V permits, meaning no additional sources with active control devices need CAM plans; only ongoing, not new, CAM is needed. Since there are no new CAM plans, only review of existing CAM plans, the renewal review hours drop. No changes to the CAM rule keep costs the same (i.e., no increase in burden). Moreover, familiarity with existing CAM plan requirements should reduce source and regulatory review burden.

Courtney Kerwin,
Director, Regulatory Support Division.

[FR Doc. 2024-01677 Filed 1-26-24; 8:45 am]

BILLING CODE 6560-50-P